DEPARTMENT OF LABOR

Employment and Training Administration

Notice of a Change in Status of an Extended Benefit (EB) Period for Alaska

AGENCY: Employment and Training Administration, Labor.

ACTION: Notice.

This notice announces a change in benefit period eligibility under the EB Program for Alaska.

The following change has occurred since the publication of the last notice regarding the State's EB status:

• Based on data released by the Bureau of Labor Statistics on October 20, 2017, Alaska's 3-month average seasonally adjusted total unemployment rate was 7.1 percent which exceeds 110 percent of the corresponding rate in the second preceding year. This causes Alaska to be triggered “on” to an EB period beginning November 5, 2017. The State will remain in an EB period for a minimum of 13 weeks.

Information for Claimants

The duration of benefits payable in the EB Program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13 (c) (1)).

Persons who believe they may be entitled to EB, or who wish to inquire about their rights under the program, should contact their State Workforce Agency.

FOR FURTHER INFORMATION CONTACT: U.S. Department of Labor, Employment and Training Administration, Office of Unemployment Insurance Room S-4524, Attn: Anatoli Sznoluch, 200 Constitution Avenue NW., Washington, DC 20210, telephone number (202) 693-3176 (this is not a toll-free number) or by email: Sznoluch.Anatoli@dol.gov.

Nancy M. Rooney,
Deputy Assistant Secretary for Employment and Training, Labor.

[FR Doc. 2017-24002 Filed 11-2-17; 8:45 am]

BILLING CODE 4510-FW-P